DEPARTMENT OF TRANSPORTATION

Federal Aviation Administration

14 CFR Parts 401, 404, 413, 414, 415, 417, 420, 431, 433, 435, 437, 440, 450, and 460

[Docket No. FAA-2019-0229; Amdt. No(s). 401-9; 404-7, 413-12, 414-4, 415-7, 417-6, 420-9, 431-7, 433- 3, 435-5, 437-3, 440-5, 450-2, and 460-3]

RIN 2120-AL17

Streamlined Launch and Reentry License Requirements

AGENCY: Federal Aviation Administration (FAA), U.S. Department of Transportation (DOT).

ACTION: Final rule; delay of effective date.

SUMMARY: In accordance with the memorandum of January 20, 2021, from the Assistant to the President and Chief of Staff, titled “Regulatory Freeze Pending Review,” the Department delays the effective date of the final rule, titled “Streamlined Launch and Reentry License Requirements,” until March 21, 2021.

DATES: As of March 9, 2021, the March 10, 2021 effective date of the final rule published on December 10, 2020, at 85 FR 79566, is delayed to March 21, 2021.

FOR FURTHER INFORMATION CONTACT: For technical questions concerning this action, contact Randy Repcheck, Office of Commercial Space Transportation, Federal Aviation Administration, 800 Independence Avenue SW, Washington, DC 20591; telephone (202) 267-8760; email Randy.Repcheck@faa.gov.

SUPPLEMENTARY INFORMATION:

Electronic Access and Filing

A copy of the “Streamlined Launch and Reentry License Requirements” notice of proposed rulemaking (NPRM) (84 FR 15296, April 15, 2019), all comments received, the final rule, and all background material may be viewed online at http://www.regulations.gov using the docket number listed above. A copy of this final rule will also be placed in the docket. Electronic retrieval help and guidelines are available on the website. It is available 24 hours each day, 365 days each year. An electronic copy of this document may also be downloaded from the Office of the Federal Register's website at http://www.ofr.gov and the Government Publishing Office's website at http://www.gpo.gov.

Background

On January 20, 2021, the Assistant to the President and Chief of Staff issued a memorandum titled, “Regulatory Freeze Pending Review.” The memorandum requested that the heads of executive departments and agencies (agencies) take steps to ensure that the President's appointees or designees have the opportunity to review any new or pending rules. With respect to rules published in the Federal Register, but not yet effective, the memorandum asked that agencies consider postponing the rules' effective dates for 60 days from the date of the memorandum (i.e., March 21, 2021) for the purpose of reviewing any questions of fact, law, and policy the rules may raise.

In accordance with this direction, the FAA has decided to delay the March 10, 2021 effective date of the final rule, titled “Streamlined Launch and Reentry License Requirements” (RIN 2120-AL17), until March 21, 2021. This final rule will streamline and increase flexibility in the FAA's commercial space launch and reentry regulations, and remove obsolete requirements It will also consolidate and revise multiple regulatory parts and apply a single set of licensing and safety regulations across several types of operations and vehicles. Finally, the rule will describe the requirements to obtain a vehicle operator license, the safety requirements, and the terms and conditions of a vehicle operator license.

The delay in the rule's effective date will afford the President's appointees or designees an opportunity to review the rule and will allow for consideration of any questions of fact, law, or policy that the rule may raise before it becomes effective.

Waiver of Rulemaking and Delayed Effective Date

Under the Administrative Procedure Act (APA) (5 U.S.C. 553), the FAA generally offers interested parties the opportunity to comment on proposed regulations and publishes rules not less than 30 days before their effective dates. However, the APA provides that an agency is not required to conduct notice-and-comment rulemaking or delay effective dates when the agency, for good cause, finds that the requirement is impracticable, unnecessary, or contrary to the public interest (5 U.S.C. 553(b)(B) and (d)(3)). There is good cause to waive both of these requirements here as they are impracticable. A delay in the effective date of the final rule, titled “Streamlined Launch and Reentry License Requirements,” is necessary for the President's appointees and designees to have adequate time to review the rule before it takes effect, and neither the notice and comment process nor the delayed effective date could be implemented in time to allow for this review.

Issued in Washington, DC, under the authority in 49 U.S.C. 106(f) and 51 U.S.C. Chapter 509, on February 22, 2021.
Steve Dickson,
Administrator.

[FR Doc. 2021-04068 Filed 3-8-21; 8:45 am]

BILLING CODE 4910-13-P